DEPARTMENT OF THE TREASURY

Submission for OMB Review; Comment Request

October 26, 2005.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

Dates: Written comments should be received on or before December 2, 2005 to be assured of consideration.

Internal Revenue Service (IRS)

OMB Number: 1545-1500.

Type of Review: Extension.

Title: Pre-Screening Notice and Certification Request for the Work Opportunity and Welfare-to-Work Credits.

Form: IRS form 8850.

Description: A job applicant completes and signs, under penalties of perjury, the top portion of the form to indicate that he or she is a member of a targeted group. If the employer has a belief that the applicant is a member of a targeted group, the employer signs the other portion of the form under penalties of perjury and submits it to the SESA as part of a written request of certification.

Respondents: Business or other for-profit.

Estimated Total Burden Hours: 1,596,000 hours.

OMB Number: 1545-1509.

Type of Review: Revision.

Title: 941 Telefile, Employer's Quarterly Federal Tax Returns.

Form: IRS form 941.

Description: Form 941 Telefile is used by employers to report by phone payments made to employees subject to income and social security and Medicare taxes and the amounts of these taxes.

Respondents: Business or other for-profit, Not-for-profit institutions and State, Local or Tribal Government.

Estimated Total Burden Hours: 7,488,800 hours.

Clearance Officer: Glenn P. Kirkland, (202) 622-3428. Internal Revenue Service, Room 6516, 1111 Constitution Avenue, NW., Washington, DC 20224.

OMB Reviewer: Alexander T. Hunt, (202) 395-7316. Office of Management and Budget, Room 10235, New Executive Office Building, Washington, DC 20503.

Michael A. Robinson,
Treasury PRA Clearance Officer.

[FR Doc. 05-21815 Filed 11-1-05; 8:45 am]

BILLING CODE 4830-01-P